DEPARTMENT OF COMMERCE

International Trade Administration

Department of Agriculture—Albany, CA; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 02-039.

Applicant: U.S. Department of Agriculture, Albany, CA 94710.

Instrument: Automated Robotic Colony Picking and Replicating System, Model QPixII.

Manufacturer: Genetix Limited, United Kingdom.

Intended Use: See notice at 67 FR 58355, September 16, 2002.

Comments: None received.

Decision: Approved. No instrument of equivalent scientific value to the foreign instrument, for such purposes as it is intended to be used, is being manufactured in the United States.

Reasons: The foreign instrument provides a high performance robotic system for automated microbial colony picking and replicating on the basis of various features with additional capabilities of halo recognition and rearraying selected clones from one microplate to another. The National Institutes of Health advised in its memorandum of September 11, 2002, that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-31154 Filed 12-9-02; 8:45 am]

BILLING CODE 3510-DS-P